DEPARTMENT OF THE INTERIOR

Minerals Management Service

Agency Information Collection Activities: Proposed Collection; Comment Request

AGENCY: Minerals Management Service (MMS), Interior.

ACTION: Notice of extension of an information collection (1010-0106).

SUMMARY: To comply with the Paperwork Reduction Act of 1995 (PRA), MMS is inviting comments on a collection of information that we will submit to the Office of Management and Budget (OMB) for review and approval. The information collection request (ICR) concerns the paperwork requirements in the regulations under “30 CFR Part 253, Oil Spill Financial Responsibility for Offshore Facilities.”

DATES: Submit written comments by May 7, 2004.

ADDRESSES: Mail or hand-carry comments to the Department of the Interior; Minerals Management Service; Attention: Rules Processing Team; Mail Stop 4024; 381 Elden Street; Herndon, Virginia 20170-4817. If you wish to e-mail comments, the e-mail address is: rules.comments@mms.gov. Reference “Information Collection 1010-0106” in your e-mail subject line and mark your message for return receipt. Include your name and return address in your message.

FOR FURTHER INFORMATION CONTACT: Arlene Bajusz, Rules Processing Team, (703) 787-1600. You may also contact Arlene Bajusz to obtain a copy, at no cost, of the regulations that require the subject collection of information.

SUPPLEMENTARY INFORMATION: Title: 30 CFR Part 253, Oil Spill Financial Responsibility for Offshore Facilities.

OMB Control Number: 1010-0106.

Abstract: Title I of the Oil Pollution Act of 1990 (OPA) (33 U.S.C. 2701 et seq.), as amended by the Coast Guard Authorization Act of 1996 (Pub. L. 104-324), provides at section 1016 that oil spill financial responsibility (OSFR) for offshore facilities be established and maintained according to methods determined acceptable to the President. Section 1016 of OPA supersedes the offshore facility OSFR provisions of the Outer Continental Shelf Lands Act Amendments of 1978. These authorities and responsibilities are among those delegated to MMS under which we issue regulations governing oil and gas and sulphur operations in the OCS. This information collection request addresses the regulations at 30 CFR Part 253, Oil Spill Financial Responsibility for Offshore Facilities, and the associated supplementary notices to lessees and operators intended to provide clarification, description, or explanation of these regulations.

The MMS will use the information collected under 30 CFR part 253 to verify compliance with section 1016 of OPA. The information is necessary to confirm that applicants can pay for cleanup and damages from oil-spill discharges from covered offshore facilities (COFs). Routinely, the information will be used: (a) To establish eligibility of applicants for an OSFR Certification; and (b) as a reference source for clean-up and damage claims associated with oil-spill discharges from COFs; the names, addresses, and telephone numbers of owners, operators, and guarantors; designated U.S. agents for service of process; and persons to contact. To collect most of the information, MMS developed standard forms. The forms and their purposes are:

Form MMS-1016, Designated Applicant Information Certification: The designated applicant uses this form to provide identifying information (company legal name, address, contact name and title, telephone numbers) and to summarize the OSFR evidence. This form is required for each new OSFR Certification application.

Form MMS-1017, Designation of Applicant: When there is more than one responsible party for a COF, they must select a designated applicant. Each responsible party, as defined in the regulations, must use this form to notify MMS of the designated applicant. This form is also used to designate the U.S. agent for service of process for the responsible party(ies) should claims from an oil-spill discharge exceed the amount evidenced by the designated applicant; identifies and provides pertinent information about the responsible party(ies); and lists the covered offshore facilities for which the designated applicant is responsible for OSFR certification. The form identifies each COF by State or OCS region; lease, permit, right of use and easement, or pipeline number; aliquot section; area name; and block number. This form must be submitted with each new OSFRC application in which there is at least one responsible party who is not the designated applicant for a COF.

Form MMS-1018, Self-insurance or Indemnity Information: This form is used if the designated applicant is self-insuring or using an indemnity as OSFR evidence. As appropriate, either the designated applicant or the designated applicant's indemnitor completes the form to indicate the amount of OSFR coverage and effective and expiration dates. The form also provides pertinent information about the self-insurer or indemnitor and is used to designate a U.S. agent for service of process for claims up to the evidenced amount. This form must be submitted each time new evidence of OSFR is submitted using either self-insurance or an indemnity.

Form MMS-1019, Insurance Certificate: The designated applicant (representing himself as a direct purchaser of insurance) or his insurance agent or broker and the named insurers complete this form to provide OSFR evidence using insurance. The number of forms to be submitted will depend upon the amount of OSFR required and the number of layers of insurance to evidence the total amount of OSFR required. One form is required for each layer of insurance. The form provides pertinent information about the insurer(s) and designates a U.S. agent for service of process. This form must be submitted at the beginning of the term of the insurance coverage for the designated applicant's COFs.

Form MMS-1020, Surety Bond: Each bonding company that issues a surety bond for the designated applicant must complete this form indicating the amount of surety and effective dates. The form provides pertinent information about the bonding company and designates a U.S. agent for service of process for the amount evidenced by the surety bond. This form must be submitted at the beginning of the term of the surety bond for the named designated applicant.

Form MMS-1021, Covered Offshore Facilities: The designated applicant submits this form to identify the COFs to which the OSFR evidence applies. The form identifies each COF by State or OCS region; lease, permit, right of use and easement, or pipeline number; aliquot section; area name; block number; and potential worst case oil-spill discharge. This form is required to be submitted with each new OSFR Certification application which includes COFs.

Form MMS-1022, Covered Offshore Facility Changes: During the term of the issued OSFR Certification, the designated applicant submits changes to the current COF listings on this form, including changes to the worst case oil-spill discharge for a COF. This form must be submitted when identified changes occur during the term of an OSFR Certification.

We will protect information from respondents considered proprietary under the Freedom of Information Act (5 U.S.C. 552) and its implementing regulations (43 CFR part 2) and under regulations at 30 CFR 250.196, “Data and information to be made available to the public.” No items of a sensitive nature are collected. Responses are mandatory.

Frequency: The frequency of submission will vary, but most will respond at least once per year.

Estimated Number and Description of Respondents: Some respondents are approximately 600 holders of leases, permits, and rights of use and easement in the OCS and in State coastal waters who will appoint approximately 200 designated applicants. Other respondents will be the designated applicants' insurance agents and brokers, bonding companies, and indemnitors. There are no recordkeeping requirements associated with this collection.

Estimated Annual Reporting and Recordkeeping “Hour” Burden: The currently approved “hour” burden for this information collection is a total of 19,504 hours. The following chart details the individual components of this burden and estimated burden per response or record. In calculating the burden, we assumed that respondents perform certain requirements in the normal course of their activities. We consider these to be usual and customary and took that into account in estimating the burden.

Citation 30 CFR 253 | Reporting requirement | Hour burden per response
Subpart B: 11(a)(1); Subpart D: 40; 41 | Form MMS-1016—Designated Applicant Information Certification | 1
Subpart B: 11(a)(1); Subpart D: 40; 41 | Form MMS-1017—Designation of Applicant | 9
Subpart C: 21; 22; 23; 24; 26; 27; 30; Subpart D: 40; 41 | Form MMS-1018—Self-Insurance or Indemnity Information | 1
Subpart C: 29; Subpart D: 40; 41 | Form MMS-1019—Insurance Certificate | 120
Subpart C: 31; Subpart D: 40; 41 | Form MMS-1020 Surety Bond | 24
Subpart D: 40; 41 | Form MMS-1021—Covered Offshore Facilities | 3
Subpart D: 40; 41; 42 | Form MMS-1022—Covered Offshore Facility Changes | 1
Subpart B: 12 | Request for determination of OSFR applicability | 2
Subpart B: 15 | Notice of change in ability to comply | 1
Subpart B: 15(f) | Provide claimant written explanation of denial | 1
Subpart C: 32 | Proposal for alternative method to evidence OSFR (anticipate no proposals, but the regs provide the opportunity) | 120
Subpart F | Claims: MMS will not be involved in the claims process. Assessment of the burden for claims against the Oil Spill Liability Trust Fund (30 CFR parts 135, 136, 137) should be responsibility of the U.S. Coast Guard
Subpart F: 60 | Claimant request to determine whether a guarantor may be liable for a claim | 2
1-62 | General departure and alternative compliance requests not specifically covered elsewhere in 30 CFR 253 | 1

Estimated Annual Reporting and Recordkeeping “Non-Hour Cost” Burden: We have identified no cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: MMS's practice is to make comments, including names and home addresses of respondents, available for public review during regular business hours. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Federal Register Liaison Officer: Denise Johnson (202) 208-3976.

Dated: March 1, 2004.
E.P. Danenberger,
Chief, Engineering and Operations Division.

[FR Doc. 04-5047 Filed 3-5-04; 8:45 am]

BILLING CODE 4310-MR-U